DEPARTMENT OF LABOR

Employment and Training Administration

[TA-W-55,720]

The Boeing Aircraft Company Integrated Defense Systems Wichita, KS; Notice of Termination of Investigation

Pursuant to section 221 of the Trade Act of 1974, as amended, an investigation was initiated on October 4, 2004, in response to a petition filed by representatives of the International Association of Machinist & Aerospace Workers, AFL-CIO on behalf of workers at The Boeing Aircraft Company, Wichita, Kansas.

The Department issued a negative determination (TA-W-55,144) applicable to the petitioning group of workers on July 30, 2004. It was the intent of the current petitioners to file for reconsideration of that determination, and such a request has been accepted. Consequently, this investigation would duplicate efforts and has been terminated.

Signed in Washington, DC this 5th day of October, 2004.
Richard Church,
Certifying Officer, Division of Trade Adjustment Assistance.

[FR Doc. E4-2851 Filed 10-25-04; 8:45 am]

BILLING CODE 4510-30-P